DEPARTMENT OF HEALTH AND HUMAN SERVICES

Food and Drug Administration

[Docket No. FDA-2016-N-0001]

National Mammography Quality Assurance Advisory Committee; Amendment of Notice

AGENCY: Food and Drug Administration, HHS.

ACTION: Notice.

SUMMARY: The Food and Drug Administration (FDA) is announcing an amendment to the notice of meeting of the National Mammography Quality Assurance Advisory Committee. This meeting was announced in the Federal Register of August 5, 2016. The amendment is being made to reflect a change in the ADDRESSES portion of the document. There are no other changes.

FOR FURTHER INFORMATION CONTACT: S.J. Anderson, Center for Devices and Radiological Health, Food and Drug Administration, 10903 New Hampshire Ave., Bldg. 66, Rm. 1552, Silver Spring, MD 20993-0002, Sara.Anderson@fda.hhs.gov, 301-796-6875, or FDA Advisory Committee Information Line, 1-800-741-8138 (301-443-0572 in the Washington, DC area), code MA. Please call the Information Line for up-to-date information on this meeting.

SUPPLEMENTARY INFORMATION: In the Federal Register of August 5, 2016 (81 FR 51918), FDA announced that a meeting of the National Mammography Quality Assurance Advisory Committee would be held on September 15, 2016. On page 51919, in the first column, in the ADDRESSES portion: Hilton Washington, DC/North, Salons A, B, C and D, 620 Perry Pkwy., Gaithersburg, MD 20877. The hotel's telephone number is 301-977-8900, is changed to read as follows: Gaithersburg Holiday Inn—Grand Ballroom, 2 Montgomery Village Ave., Gaithersburg, MD 20878. The hotel's telephone number is 301-948-8900.

This notice is issued under the Federal Advisory Committee Act (5 U.S.C. app. 2) and 21 CFR part 14, relating to the advisory committees.

Dated: August 17, 2016.
Janice M. Soreth,
Acting Associate Commissioner, Special Medical Programs.

[FR Doc. 2016-19957 Filed 8-19-16; 8:45 am]

BILLING CODE 4164-01-P